DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Colorado:
Douglas (FEMA Docket No.: B-2418) | Town of Parker (23-08-0472P). | The Honorable Jeff Toborg, Mayor, Town of Parker, 20120 East Main Street, Parker, CO 80138. | Town Hall, 20120 East Main Street, Parker, CO 80138. | May 10, 2024 | 080310
Summit (FEMA Docket No.: B-2424) | Town of Silverthorne (22-08-0673P). | The Honorable Ann-Marie Sandquist, Mayor, Town of Silverthorne, P.O. Box 1309, Silverthorne, CO 80498. | Town Hall, 601 Center Circle, Silverthorne, CO 80498. | May 13, 2024 | 080201
Summit (FEMA Docket No.: B-2424) | Unincorporated areas of Summit County (22-08-0673P). | Tamara Pogue, Chair, Summit County Board of Commissioners, P.O. Box 68, Breckenridge, CO 80424. | Summit County Commons, 37 Peak One Drive, Frisco, CO 80443. | May 13, 2024 | 080290
Weld (FEMA Docket No.: B-2424) | Town of Firestone (23-08-0123P). | The Honorable Drew Peterson, Mayor, Town of Firestone, 9950 Park Avenue, Firestone, CO 80504. | Town Hall, 9950 Park Avenue, Firestone, CO 80504. | May 20, 2024 | 080241
Weld (FEMA Docket No.: B-2424) | Town of Frederick (23-08-0123P). | The Honorable Tracie Crites, Mayor, Town of Frederick, P.O. Box 435, Frederick, CO 80530. | Town Hall, 323 5th Street, Frederick, CO 80530. | May 20, 2024 | 080244
Weld (FEMA Docket No.: B-2424) | Unincorporated areas of Weld County (23-08-0123P). | Mike Freeman, Chair, Weld County Board of Commissioners, P.O. Box 758, Greeley, CO 80631. | Weld County Commissioner's Office, 1150 O Street, Greeley, CO 80631. | May 20, 2024 | 080266
Florida:
Lake (FEMA Docket No.: B-2413) | City of Mount Dora (24-04-0144P). | Patrick C. Comiskey, City of Mount Dora Manager, 510 North Baker Street, Mount Dora, FL 32757. | City Hall, 510 North Baker Street, Mount Dora, FL 32757. | May 16, 2024 | 120137
Lake (FEMA Docket No.: B-2413) | Unincorporated areas of Lake County (24-04-0144P). | Jennifer Barker, Lake County Manager, 315 West Main Street, Tavares, FL 32778. | Lake County Public Works Department, 323 North Sinclair Avenue, Tavares, FL 32778. | May 16, 2024 | 120421
Monroe (FEMA Docket No.: B-2418) | City of Marathon(23-04-4681P). | The Honorable Robyn Still, Mayor, City of Marathon, 9805 Overseas Highway, Marathon, FL 33050. | City Hall, 9805 Overseas Highway, Marathon, FL 33050. | May 31, 2024 | 120681
Monroe (FEMA Docket No.: B-2413) | Village of Islamorada (24-04-0111P). | The Honorable Joseph Buddy Pinder III, Mayor, Village of Islamorada, 86800 Overseas Highway, Islamorada, FL 33036. | Building Department, 86800 Overseas Highway, Islamorada, FL 33036. | May 22, 2024 | 120424
Monroe (FEMA Docket No.: B-2413) | Village of Islamorada (24-04-0168P). | The Honorable Joseph Buddy Pinder III, Mayor, Village of Islamorada, 86800 Overseas Highway, Islamorada, FL 33036. | Building Department, 86800 Overseas Highway, Islamorada, FL 33036. | May 24, 2024 | 120424
Orange (FEMA Docket No.: B-2413) | Unincorporated areas of Orange County (23-04-2986P). | The Honorable Jerry L. Demings, Mayor, Orange County, 201 South Rosalind Avenue, 5th Floor, Orlando, FL 32801. | Orange County Public Works Department, Stormwater Management Division, 4200 South John Young Parkway, Orlando, FL 32839. | May 20, 2024 | 120179
Palm Beach (FEMA Docket No.: B-2424) | Unincorporated areas of Palm Beach County (23-04-4841P). | Verdenia C. Baker, Palm Beach County Administrator, 301 North Olive Avenue, West Palm Beach, FL 33401. | Palm Beach County Building Division, 2300 North Jog Road, Vista Center, 1st Floor, 1E-17, West Palm Beach, FL 33411. | May 13, 2024 | 120192
Polk (FEMA Docket No.: B-2413) | City of Lakeland (23-04-4869P). | Shawn Sherrouse, City of Lakeland Manager, 228 South Massachusetts Avenue, Lakeland, FL 33801. | Public Works Division, 407 Fairway Avenue, Lakeland, FL 33801. | May 23, 2024 | 120267
Polk (FEMA Docket No.: B-2413) | Unincorporated areas of Polk County (23-04-4869P). | Bill Beasley, Polk County Manager, 330 West Church Street, Bartow, FL 33831. | Polk County Land Development Division, 330 West Church Street, Bartow, FL 33831. | May 23, 2024 | 120261
Polk (FEMA Docket No.: B-2418) | Unincorporated areas of Polk County (23-04-5503P). | Bill Beasley, Polk County Manager, 330 West Church Street, Bartow, FL 33831. | Polk County Land Development Division, 330 West Church Street, Bartow, FL 33831. | May 16, 2024 | 120261
Georgia: DeKalb (FEMA Docket No.: B-2413) | City of Chamblee (23-04-3034P). | The Honorable Brian K. Mock, Mayor, City of Chamblee, 3518 Broad Street, Chamblee, GA 30341. | City Hall, 3518 Broad Street, Chamblee, GA 30341. | May 17, 2024 | 130066
Maine:
Hancock (FEMA Docket No.: B-2413) | City of Ellsworth (22-01-0657P). | Glenn Moshier, Manager, City of Ellsworth, 1 City Hall Plaza, Ellsworth, ME 04605. | City Hall, 1 City Hall Plaza, Ellsworth, ME 04605. | May 31, 2024 | 230066
Hancock (FEMA Docket No.: B-2413) | Town of Amherst (22-01-0873P). | Westley Ellington, Selectman, Town of Amherst, P.O. Box 40, Aurora, ME 04408. | Town Hall, 572 Airline Road, Aurora, ME 04605. | May 31, 2024 | 230272
Hancock (FEMA Docket No.: B-2413) | Town of Blue Hill (22-01-1014P). | Ellen Best, Chair, Town of Blue Hill Select Board, 18 Union Street, Blue Hill, ME 04614. | Town Hall, 18 Union Street, Blue Hill, ME 04614. | May 31, 2024 | 230274
Hancock (FEMA Docket No.: B-2413) | Town of Bucksport (22-01-1017P). | The Honorable Peter L. Stewart, Mayor, Town of Bucksport, 766 State Route 46, Bucksport, ME 04416. | Town Hall, 50 Main Street, Bucksport, ME 04416. | May 31, 2024 | 230065
Hancock (FEMA Docket No.: B-2413) | Town of Dedham (22-01-1013P). | Peter Merritt, Chair, Town of Dedham Selectmen, 2073 Main Road, Suite A, Dedham, ME 04429. | Town Hall, 2073 Main Road, Suite A, Dedham, ME 04429. | May 31, 2024 | 230279
Hancock (FEMA Docket No.: B-2413) | Town of Eastbrook (22-01-0871P). | Julie Curtis, First Selectman, Town of Eastbrook Board of Selectmen, 959 Eastbrook Road, Eastbrook, ME 04634. | Town Hall, 959 Eastbrook Road, Eastbrook, ME 04634. | May 31, 2024 | 230281
Hancock (FEMA Docket No.: B-2413) | Town of Franklin (22-01-1012P). | Dawn R. Carter, Chair, Town of Franklin Select Board, P.O. Box 206, Franklin, ME 04634. | Town Hall, 34 Main Street, Franklin, ME 04634. | May 31, 2024 | 230282
Hancock (FEMA Docket No.: B-2413) | Town of Gouldsboro (22-01-1019P). | Eve Wilkinson, Manager, Town of Gouldsboro, P.O. Box 68, Prospect Harbor, ME 04669. | Town Hall, 59 Main Street, Prospect Harbor, ME 04669. | May 31, 2024 | 230283
Hancock (FEMA Docket No.: B-2413) | Town of Hancock (22-01-1012P). | John Bridges Jr., Chair, Town of Hancock Select Board, P.O. Box 68, Hancock, ME 04640. | Town Hall, 18 Point Road, Hancock, ME 04640. | May 31, 2024 | 230284
Hancock (FEMA Docket No.: B-2413) | Town of Mariaville (22-01-0872P). | Ross Edgecomb, Chair, Town of Mariaville Select Board, 1686 Mariaville Road, Mariaville, ME 04605. | Town Hall, 1686 Mariaville Road, Mariaville, ME 04605. | May 31, 2024 | 230286
Hancock (FEMA Docket No.: B-2413) | Town of Mariaville (22-01-0873P). | Ross Edgecomb, Chair, Town of Mariaville Select Board, 1686 Mariaville Road, Mariaville, ME 04605. | Town Hall, 1686 Mariaville Road, Mariaville, ME 04605. | May 31, 2024 | 230286
Hancock (FEMA Docket No.: B-2413) | Town of Orland (22-01-1018P). | Edward Rankin, Sr., Chair, Town of Orland Board of Selectmen, P.O. Box 67, Orland, ME 04472. | Town Hall, 25 School House Road, Orland, ME 04472. | May 31, 2024 | 230288
Hancock (FEMA Docket No.: B-2413) | Town of Osborn (22-01-0871P). | Greg Bassett, First Selectman, Town of Osborn Board of Selectmen, 197 Moose Hill Road, Osborn, ME 04605. | Town Hall, 197 Moose Hill Road, Osborn, ME 04605. | May 31, 2024 | 230595
Hancock (FEMA Docket No.: B-2413) | Town of Otis (22-01-1013P). | James Dunn, Selectman, Town of Otis Select Board, 132 Otis Road, Otis, ME 04605. | Town Hall, 132 Otis Road, Otis, ME 04605. | May 31, 2024 | 230289
Hancock (FEMA Docket No.: B-2413) | Town of Penobscot (22-01-1014P). | Harold Hatch, Chair, Town of Penobscot Select Board, P.O. Box 4, Penobscot, ME 04476. | Town Hall, 1 Southern Bay Road, Penobscot, ME 04476. | May 31, 2024 | 230290
Hancock (FEMA Docket No.: B-2413) | Town of Sullivan (22-01-1019P). | Ray Weintraub, Manager, Town of Sullivan, 1888 U.S. Highway 1, Sullivan, ME 04664. | Town Hall, 1888 U.S. Highway 1, Sullivan, ME 04664. | May 31, 2024 | 230295
Hancock (FEMA Docket No.: B-2413) | Town of Surry (22-01-1014P). | Mary Allen, Chair, Town of Surry Board of Selectmen, 741 North Bend Road, Surry, ME 04684. | Town Hall, 741 North Bend Road, Surry, ME 04684. | May 31, 2024 | 230296
Hancock (FEMA Docket No.: B-2413) | Town of Waltham (22-01-0871P). | Stephen Jordan, First Selectman, Town of Waltham Board of Selectmen, 1520 Waltham Road, Waltham, ME 04605. | Waltham Municipal Building, 1520 Waltham Road, Waltham, ME 04605. | May 31, 2024 | 230301
Hancock (FEMA Docket No.: B-2413) | Town of Waltham (22-01-1010P). | Stephen Jordan, First Selectman, Town of Waltham Board of Selectmen, 1520 Waltham Road, Waltham, ME 04605. | Waltham Municipal Building, 1520 Waltham Road, Waltham, ME 04605. | May 31, 2024 | 230301
Hancock (FEMA Docket No.: B-2413) | Township of Fletcher's Landing (22-01-1012P). | Stacie R. Beyer, Executive Director, Maine Land Use Planning Commission, Township of Fletchers Landing, Harlow Building, 4th Floor, 18 Elkins Lane, Augusta, ME 04333. | Land Use Planning Commission, Harlow Building, 4th Floor, 18 Elkins Lane, Augusta, ME 04333. | May 31, 2024 | 230458
Hancock (FEMA Docket No.: B-2413) | Township of T07 SD (22-01-1019P). | Stacie R. Beyer, Executive Director, Maine Land Use Planning Commission, Township of T07 SD, Harlow Building, 4th Floor, 18 Elkins Lane, Augusta, ME 04333. | Land Use Planning Commission, Harlow Building, 4th Floor, 18 Elkins Lane, Augusta, ME 04333. | May 31, 2024 | 230598
Hancock (FEMA Docket No.: B-2413) | Township of T09 SD (22-01-1012P). | Stacie R. Beyer, Executive Director, Maine Land Use Planning Commission, Township of T09 SD, Harlow Building, 4th Floor, 18 Elkins Lane, Augusta, ME 04333. | Land Use Planning Commission, Harlow Building, 4th Floor, 18 Elkins Lane, Augusta, ME 04333. | May 31, 2024 | 230704
Hancock (FEMA Docket No.: B-2413) | Township of T10 SD (22-01-1019P). | Stacie R. Beyer, Executive Director, Maine Land Use Planning Commission, Harlow Building, 4th Floor, 18 Elkins Lane, Augusta, ME 04333. | Land Use Planning Commission, Harlow Building, 4th Floor, 18 Elkins Lane, Augusta, ME 04333. | May 31, 2024 | 230599
Hancock (FEMA Docket No.: B-2413) | Township of T32 MD (22-01-0873P). | Stacie Beyer, Land Use Planning Commission Director, Maine Department of Agriculture, Conservation & Forestry, 22 State House Station, 18 Elkins Lane, Augusta, ME 04333. | Land Use Planning Commission, 22 State House Station, 18 Elkins Lane, Augusta, ME 04333. | May 31, 2024 | 230706
Tennessee: Davidson (FEMA Docket No.: B-2424) | Metropolitan Government of Nashville-Davidson County (23-04-4923P). | The Honorable Freddie O'Connell, Mayor, Metropolitan Government of Nashville-Davidson County, 1 Public Square, Suite 100, Nashville, TN 37201. | Metro Water Services Department, 1600 2nd Avenue North, Nashville, TN 37208. | Jun. 3, 2024 | 470040
Texas:
Collin (FEMA Docket No.: B-2418) | City of McKinney (23-06-2261P). | The Honorable George Fuller, Mayor, City of McKinney, P.O. Box 517, McKinney, TX 75070. | City Hall, 221 North Tennessee Street, McKinney, TX 75069. | May 20, 2024 | 480135
Dallas (FEMA Docket No.: B-2424) | City of Irving (23-06-1892P). | The Honorable Rick Mayor, City of Irving, 825 West Irving Boulevard, Irving, TX 75060. | Capital Improvement Program, 825 West Irving Boulevard, Irving, TX 75060. | May 28, 2024 | 480180
Denton (FEMA Docket No.: B-2418) | Town of Bartonville (23-06-1473P). | The Honorable Jaclyn Carrington, Mayor, Town of Bartonville, 1941 East Jeter Road, Bartonville, TX 76226. | Town Hall, 1941 East Jeter Road, Bartonville, TX 76226. | May 20, 2024 | 481501
Denton (FEMA Docket No.: B-2418) | Town of Flower Mound (23-06-1473P). | The Honorable Derek France, Mayor, Town of Flower Mound, 2121 Cross Timbers Road, Flower Mound, TX 75028. | Town Hall, 2121 Cross Timbers Road, Flower Mound, TX 75028. | May 20, 2024 | 480777
Ellis (FEMA Docket No.: B-2424) | City of Ennis (23-06-1837P). | The Honorable Angeline Juenemann, Mayor, City of Ennis, 107 North Sherman Street, Ennis, TX 75119. | City Hall, 107 North Sherman Street, Ennis, TX 75119. | Jun. 3, 2024 | 480207
Ellis (FEMA Docket No.: B-2418) | Unincorporated areas of Ellis County (23-06-1679P). | The Honorable Todd Little, Ellis County Judge, 101 West Main Street, Waxahachie, TX 75165. | Ellis County Courts and Administration, 109 South Jackson Street, Waxahachie, TX 75165. | Jun. 3, 2024 | 480798
Parker (FEMA Docket No.: B-2418) | Town of Annetta North (23-06-1246P). | The Honorable Robert Schmidt, Mayor, Town of Annetta North, P.O. Box 1238, Aledo, TX 76008. | Parker County Permitting Department, 1114 Santa Fe Drive, Weatherford, TX 76086. | May 13, 2024 | 481664
Parker (FEMA Docket No.: B-2418) | Unincorporated areas of Parker County (23-06-1246P). | The Honorable Pat Deen, Parker County Judge, 1 Courthouse Square, Weatherford, TX 76086. | Parker County Courthouse, 1 Courthouse Square, Weatherford, TX 76086. | May 13, 2024 | 480520
Tarrant (FEMA Docket No.: B-2424) | City of Fort Worth (23-06-1892P). | The Honorable Mattie Parker, Mayor, City of Fort Worth, 200 Texas Street, Fort Worth, TX 76102. | Department of Transportation and Public Works, Engineering Vault and Map Repository, Fort Worth, TX 76102. | May 28, 2024 | 480596

[FR Doc. 2024-13142 Filed 6-13-24; 8:45 am]

BILLING CODE 9110-12-P